FEDERAL RESERVE SYSTEM

Formations of, Acquisitions by, and Mergers of Bank Holding Companies; Correction

This notice corrects a notice (FR Doc. 11-30105) published on page 72206 of the issue for Tuesday, November 22, 2011.

Under the Federal Reserve Bank of San Francisco heading, the entry for American Start-Up Financial Institutions Investments, I, L.P., and CKH Capital, Inc., both in Monterey Park, California, is revised to read as follows:

A. Federal Reserve Bank of San Francisco (Kenneth Binning, Vice President, Applications and Enforcement) 101 Market Street, San Francisco, California 94105-1579:

1. America Start-Up Financial Institutions Investments, I, L.P., and CKH Capital, Inc., both in Monterey Park, California; to become bank holding companies by acquiring up to 62 percent of the voting shares of New Omni Bank, National Association, Alhambra, California.

In connection with this application, Applicants also have applied to retain 5.9 percent interest of the voting shares of First PacTrust Bancorp, Inc., and thereby indirectly retain Pacific Trust Bank, both in Chula Vista, California, and engage in operating as savings and loan association, pursuant to section 225.28(b)(4)(ii) of Regulation Y.

Board of Governors of the Federal Reserve System, November 22, 2011.
Robert deV. Frierson,
Deputy Secretary of the Board.

[FR Doc. 2011-30482 Filed 11-25-11; 8:45 am]

BILLING CODE 6210-01-P